DEPARTMENT OF LABOR

Employment and Training Administration

Investigations Regarding Eligibility To Apply for Worker Adjustment Assistance

Petitions have been filed with the Secretary of Labor under Section 221)(a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than January 22, 2013.

Interested persons are invited to submit written comments regarding the subject matter of the investigations to the Director, Office of Trade Adjustment Assistance, at the address shown below, not later than January 22, 2013.

The petitions filed in this case are available for inspection at the Office of the Director, Office of Trade Adjustment Assistance, Employment and Training Administration, U.S. Department of Labor, Room N-5428, 200 Constitution Avenue NW., Washington, DC 20210.

Signed at Washington, DC, this 2nd day of January 2013.
Elliott S. Kushner,
Certifying Officer, Office of Trade Adjustment Assistance.

Appendix—45 TAA Petitions Instituted Between 12/17/12 and 12/31/12
TA-W | Subject firm (petitioners) | Location | Date of institution | Date of petition
82258 | Premier Silica LLC (State/One-Stop) | Glenford, OH | 12/17/12 | 12/14/12
82259 | YP Holdings LLC (Workers) | St. Louis, MO | 12/17/12 | 12/14/12
82260 | HB Smith Company Inc. (State/One-Stop) | Westfield, MA | 12/17/12 | 12/12/12
82261 | Genzyme Science Center (State/One-Stop) | Framingham, MA | 12/17/12 | 12/17/12
82262 | Cequent Performance Products, Inc. (Union) | Goshen, IN | 12/17/12 | 12/14/12
82263 | American Airlines (Workers) | Tulsa, OK | 12/17/12 | 12/14/12
82264 | American Cotton Growers (State/One-Stop) | Littlefield, TX | 12/17/12 | 12/14/12
82265 | State Street Corporation (State/One-Stop) | North Quincy, MA | 12/17/12 | 12/12/12
82266 | Integrated Medical Partners (State/One-Stop) | Milwaukee, WI | 12/18/12 | 12/14/12
82267 | Hostess Brands (Workers) | Tulsa, OK | 12/18/12 | 11/14/12
82268 | Red Wing Shoe Company, Inc. (Company) | Danville, KY | 12/18/12 | 12/17/12
82269 | Federal—Mogul (Company) | Smithville, TN | 12/18/12 | 12/18/12
82270 | Trim Masters (Company) | Nicholasville, KY | 12/18/12 | 12/17/12
82271 | Nokia, Inc. System Integration (State/One-Stop) | Arlington Heights, IL | 12/18/12 | 11/15/12
82272 | L & W Supply Corporation (State/One-Stop) | Nottingham, MD | 12/18/12 | 12/17/12
82273 | Johnson Controls (State/One-Stop) | Milwaukee, WI | 12/18/12 | 12/14/12
82274 | Applied Materials, Inc. (Workers) | Kalispell, MT | 12/18/12 | 12/13/12
82275 | Delphi (Workers) | Troy, MI | 12/19/12 | 12/18/12
82276 | Peak Sun Silicon Corporation (Workers) | Albany, OR | 12/19/12 | 12/14/12
82277 | The Berry Company, LLC (Company) | Englewood, CO | 12/19/12 | 12/18/12
82278 | Hostess Brands (44 IL Locations) (State/One-Stop) | Illinois | 12/19/12 | 12/18/12
82279 | HL Operating Corp.d/b/a Hartmann (Workers) | Lebanon, TN | 12/19/12 | 12/06/12
82280 | Tri-Tronics, Inc. (an affiliate of Garmin International, Inc) (Company) | Tucson, AZ | 12/19/12 | 12/17/12
82281 | Fiberblade, LLC (Union) | Ebensburg, PA | 12/20/12 | 12/19/12
82282 | Exide Technologies (Company) | Laureldale, PA | 12/20/12 | 12/19/12
82283 | Reckitt Benckiser, LLC (Company) | Fort Worth, TX | 12/20/12 | 12/19/12
82284 | IBM (State/One-Stop) | Armonk, NY | 12/20/12 | 12/19/12
82285 | United States Steel (Union) | McKeesport, PA | 12/20/12 | 12/19/12
82286 | Oshkosh Corporation (Union) | Oshkosh, WI | 12/20/12 | 12/17/12
82287 | Hewlett Packard (State/One-Stop) | Conway, AR | 12/21/12 | 12/20/12
82288 | Gamesa Technology Corporation (Union) | Trevose, Fairless Hills, and Bristol, PA | 12/21/12 | 12/20/12
82289 | American Airlines (Workers) | Tulsa, OK | 12/27/12 | 12/12/12
82290 | Hewlett Packard (State/One-Stop) | Houston, TX | 12/27/12 | 12/21/12
82291 | Lee Enterprises, Inc. (State/One-Stop) | Helena & Butte, MT | 12/27/12 | 12/26/12
82292 | Umicore USA Inc. (State/One-Stop) | Providence, RI | 12/27/12 | 12/21/12
82293 | Fiserv Inc. (State/One-Stop) | Walnut, CA | 12/27/12 | 12/21/12
82294 | American Airlines (Workers) | Tulsa, OK | 12/27/12 | 12/20/12
82295 | Radisys (Company) | San Diego, CA | 12/27/12 | 12/20/12
82296 | Lattice Semiconductor (Company) | Hillsboro, OR | 12/27/12 | 12/21/12
82297 | Brunswick Laboratories, Inc. (Workers) | Southboro, MA | 12/27/12 | 12/20/12
82298 | Hostess Brands (Workers) | Redding, CA | 12/27/12 | 12/20/12
82299 | Barclay Elementary—Middle (Company) | Baltimore, MD | 12/27/12 | 12/18/12
82300 | UBS Financial Services (Workers) | Weehawken, NJ | 12/28/12 | 12/27/12
82301 | Carrier (State/One-Stop) | Tyler, TX | 12/28/12 | 12/27/12
82302 | Wausau Paper Mill (State/One-Stop) | Brainerd, MN | 12/28/12 | 12/27/12

[FR Doc. 2013-00339 Filed 1-9-13; 8:45 am]

BILLING CODE 4510-FN-P